DEPARTMENT OF COMMERCE

Foreign-Trade Zones Board

[S-206-2024]

Foreign-Trade Zone 102; Application for Subzone; True Manufacturing Co., Inc.; O'Fallon and Mexico, Missouri

An application has been submitted to the Foreign-Trade Zones (FTZ) Board by the St. Louis County Port Authority, grantee of FTZ 102, requesting subzone status for the facilities of True Manufacturing Co., Inc., located in O'Fallon and Mexico, Missouri. The application was submitted pursuant to the provisions of the Foreign-Trade Zones Act, as amended (19 U.S.C. 81a-81u), and the regulations of the FTZ Board (15 CFR part 400). It was formally docketed on November 20, 2024.

The proposed subzone would consist of the following sites: Site 1 (184 acres)—2001 East Terra Lane, O'Fallon; and Site 2 (56 acres)—1655 Bassford Drive, Mexico. No authorization for production activity has been requested at this time. The proposed subzone would be subject to the existing activation limit of FTZ 102.

In accordance with the FTZ Board's regulations, Kolade Osho of the FTZ Staff is designated examiner to review the application and make recommendations to the Executive Secretary.

Public comment is invited from interested parties. Submissions shall be addressed to the FTZ Board's Executive Secretary and sent to: ftz@trade.gov. The closing period for their receipt is January 6, 2025. Rebuttal comments in response to material submitted during the foregoing period may be submitted during the subsequent 15-day period to January 21, 2025.

A copy of the application will be available for public inspection in the “Online FTZ Information Section” section of the FTZ Board's website, which is accessible via www.trade.gov/ftz.

For further information, contact Kolade Osho at Kolade.Osho@trade.gov.

Dated: November 20, 2024.
Elizabeth Whiteman,
Executive Secretary.

[FR Doc. 2024-27649 Filed 11-25-24; 8:45 am]

BILLING CODE 3510-DS-P